DEPARTMENT OF LABOR

Employment and Training Administration

[TA-W-82,972]

John Wiley and Sons, Inc. Composition Services Group, Information Technology Department, and Manufacturing Department Indianapolis, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on September 19, 2013, applicable to workers of John Wiley and Sons, Inc., Composition Services Group, Indianapolis, Indiana (TA-W-82,972). The Department's notice of determination was published in the Federal Register on October 24, 2013 (79 FR 63498).

The Department reviewed the certification for workers of the subject firm. New information from the company revealed that worker separations in the Information Technology Department and the Manufacturing Department are attributable to the same acquisition of services from a foreign country that contributed importantly to worker separations in the Composition Services Group.

The intent of the Department's certification is to include all workers of the subject firm who were adversely affected by the firm's acquisition of services from a foreign country.

Based on these findings, the Department is amending this certification to include workers from the Information Technology Department and the Manufacturing Department at the Indianapolis, Indiana location of the subject firm.

The amended notice applicable to TA-W-82,972 is hereby issued as follows:

All workers of John Wiley and Sons, Inc., Composition Services Group, Information Technology Department, and Manufacturing Department, Indianapolis, Indiana, who became totally or partially separated from employment on or after August 9, 2012 through September 19, 2015, and all workers in the group threatened with total or partial separation from employment on the date of certification through two years from the date of certification, are eligible to apply for adjustment assistance under Chapter 2 of Title II of the Trade Act of 1974, as amended.

Signed in Washington, DC this 25th day of July, 2014.
Del Min Amy Chen,
Certifying Officer, Office of Trade Adjustment Assistance.

[FR Doc. 2014-19509 Filed 8-15-14; 8:45 am]

BILLING CODE 4510-FN-P